DEPARTMENT OF HOMELAND SECURITY

U.S. Customs and Border Protection

DEPARTMENT OF THE TREASURY

19 CFR Part 12

[CBP Dec. 22-06]

RIN 1515-AE67

Imposition of Import Restrictions on Categories of Archaeological and Ethnological Material of Albania

AGENCIES: U.S. Customs and Border Protection, Department of Homeland Security; Department of the Treasury.

ACTION: Final rule.

SUMMARY: This final rule amends the U.S. Customs and Border Protection (CBP) regulations to reflect the imposition of import restrictions on certain categories of archaeological and ethnological material of the Republic of Albania (Albania). These restrictions are being imposed pursuant to an agreement between the United States and Albania that has been entered into under the authority of the Convention on Cultural Property Implementation Act. This final rule amends the CBP regulations by adding Albania to the list of countries which have a bilateral agreement with the United States that imposes cultural property import restrictions. This final rule also contains the Designated List that describes the types of archaeological and ethnological material to which the restrictions apply.

DATES: Effective on March 17, 2022.

FOR FURTHER INFORMATION CONTACT: For legal aspects, W. Richmond Beevers, Chief, Cargo Security, Carriers and Restricted Merchandise Branch, Regulations and Rulings, Office of Trade, (202) 325-0084, ot-otrrculturalproperty@cbp.dhs.gov. For operational aspects, Julie L. Stoeber, Chief, 1USG Branch, Trade Policy and Programs, Office of Trade, (202) 945-7064, 1USGBranch@cbp.dhs.gov.

SUPPLEMENTARY INFORMATION:

Background

The Convention on Cultural Property Implementation Act, Public Law 97-446, 19 U.S.C. 2601 et seq. (hereinafter, “the Cultural Property Implementation Act”), implements the 1970 United Nations Educational, Scientific and Cultural Organization (UNESCO) Convention on the Means of Prohibiting and Preventing the Illicit Import, Export and Transfer of Ownership of Cultural Property (hereinafter, “the Convention” (823 U.N.T.S. 231 (1972)). Pursuant to the Cultural Property Implementation Act, the United States entered into a bilateral agreement with the Republic of Albania (Albania) to impose import restrictions on certain archaeological and ethnological material from Albania. This rule announces the imposition of import restrictions on certain archaeological and ethnological material from Albania.

Determinations

Under 19 U.S.C. 2602(a)(1), the United States must make certain determinations before entering into an agreement to impose import restrictions under 19 U.S.C. 2602(a)(2). On May 26, 2021, the Acting Assistant Secretary for Educational and Cultural Affairs, United States Department of State, after consultation with and recommendation by the Cultural Property Advisory Committee, made the determinations required under the statute with respect to certain archaeological and ethnological material originating in Albania that is described in the Designated List set forth below in this document.

These determinations include the following: (1) That Albania's cultural heritage is in jeopardy from pillage of certain types of archaeological material representing Albania's cultural heritage ranging in date from approximately 300,000 B.C. to A.D. 1750, and certain types of ethnological material representing Albania's cultural heritage ranging in date from approximately A.D. 400 to 1913 (19 U.S.C. 2602(a)(1)(A)); (2) that the Albanian government has taken measures consistent with the Convention to protect its cultural patrimony (19 U.S.C. 2602(a)(1)(B)); (3) that import restrictions imposed by the United States would be of substantial benefit in deterring a serious situation of pillage and remedies less drastic are not available (19 U.S.C. 2602(a)(1)(C)); and (4) that the application of import restrictions as set forth in this final rule is consistent with the general interests of the international community in the interchange of cultural property among nations for scientific, cultural, and educational purposes (19 U.S.C. 2602(a)(1)(D)). The Acting Assistant Secretary also found that the material described in the determinations meets the statutory definition of “archaeological or ethnological material of the State Party” (19 U.S.C. 2601(2)).

The Agreement

On August 23, 2021, the Governments of the United States and Albania signed a bilateral agreement, “Memorandum of Understanding between the United States of America and the Republic of Albania Concerning the Imposition of Import Restrictions on Categories of Archaeological and Ethnological Material of Albania” (hereinafter, “the Agreement”), pursuant to the provisions of 19 U.S.C. 2602(a)(2). The Agreement entered into force on February 28, 2022, following the exchange of diplomatic notes, and enables the promulgation of import restrictions on certain categories of archaeological material ranging in date from approximately 300,000 B.C. to A.D. 1750, and ethnological material ranging in date from approximately A.D. 400 to 1913. A list of the categories of archaeological and ethnological material subject to the import restrictions is set forth later in this document.

Restrictions and Amendment to the Regulations

In accordance with the Agreement, importation of material designated below is subject to the restrictions of 19 U.S.C. 2606 and § 12.104g(a) of title 19 of the Code of Federal Regulations (19 CFR 12.104g(a)) and will be restricted from entry into the United States unless the conditions set forth in 19 U.S.C. 2606 and § 12.104c of the CBP regulations (19 CFR 12.104c) are met. CBP is amending § 12.104g(a) of the CBP regulations (19 CFR 12.104g(a)) to indicate that these import restrictions have been imposed.

Import restrictions listed at 19 CFR 12.104g(a) are effective for no more than five years beginning on the date on which the Agreement enters into force with respect to the United States. This period may be extended for additional periods of not more than five years if it is determined that the factors which justified the Agreement still pertain and no cause for suspension of the Agreement exists. The import restrictions will expire on February 28, 2027, unless extended.

Designated List of Archaeological and Ethnological Material of Albania

The Agreement between the United States and Albania includes, but is not limited to, the categories of objects described in the Designated List set forth below. Importation of material on this list is restricted unless the material is accompanied by documentation certifying that the material left Albania legally and not in violation of the export laws of Albania.

The Designated List includes certain archaeological and ethnological material from Albania. The archaeological material in the Designated List includes archaeological material from the Middle Paleolithic to the Ottoman period, ranging in date from approximately 300,000 B.C. to A.D. 1750. The ethnological material in the Designated List includes ethnological material from the Byzantine, Medieval, and Ottoman periods, ranging in date from approximately A.D. 400 to Albanian independence in 1913. The Designated List is representative only. Any dates and dimensions are approximate.

Simplified Chronology

Paleolithic: c. 300,000-10,000 B.C.

Mesolithic: c. 10,000-6,000 B.C.

Neolithic: c. 6,000-4500 B.C.

Eneolithic/Chalcolithic/Copper Age: c. 4500-3100 B.C.

Bronze Age: c. 3100-1000 B.C.

Iron Age: c. 1000-450 B.C.

Proto-Urban/Urban period: c. 650-27 B.C.

Roman period: 27 B.C.-A.D. 395

Byzantine/Medieval period: A.D. 395-c. 1500

Ottoman period: c. A.D. 1500-1913

Categories of Archaeological and Ethnological Material

I. Archaeological Material

A. Stone

B. Metal

C. Ceramic, Clay, and Terracotta

D. Bone, Ivory, Shell, Wood, and Other Organics

E. Glass, Faience, and Semi-Precious Stone

F. Textiles

G. Leather, Papyrus, and Parchment

H. Rock Art, Paintings, and Drawings

I. Mosaics

II. Ethnological Material

A. Architectural Elements

B. Funerary Objects

C. Ritual and Ceremonial Objects

D. Paintings

E. Written Records

F. Textiles

G. Weapons and Armor

I. Archaeological Material

Archaeological material covered by the Agreement represents the following periods, styles, and cultures: Paleolithic, Mesolithic, Neolithic, Chalcolithic, Bronze Age, Iron Age, Urban period, Roman period, Byzantine/Medieval period, and Ottoman period.

A. Stone

1. Sculpture

a. Architectural Elements—Primarily in marble, limestone, and gypsum; including blocks from walls, floors, and ceilings; acroteria, antefixes, architrave, water spouts, columns, capitals, bases, lintels, jambs, friezes, pediments, tympanum, metopes, and pilasters; doors, door frames, and window fittings; caryatids, altars, prayer niches (mihrabs), screens, wellheads, fountains, mosaics, and tiles. This category also includes relief and inlay sculpture that may have been part of a building, such as friezes of sculptured stone figures set into inlaid stone. May be plain, molded, carved, or inscribed. Decorative motifs may be incised or in high relief.

b. Monuments and Stelae—Types include menhir, votive statues, funerary and votive stelae, bases and base revetments, and carved relief vases and slabs, usually in limestone, marble, or basalt. Common subject matter also includes figural, vegetative, floral, or decorative motifs. These may be painted, carved with relief sculpture, and/or carry dedicatory or funerary inscriptions.

c. Sarcophagi and Ossuaries—In marble and limestone. The sides and lids of sarcophagi and ossuaries may have relief sculptures of human and animal figures, inscriptions, monograms, and floral and geometric decoration.

d. Statuary—Both large and small, in marble, limestone, sandstone, and other stone. Subject matter includes human and animal figures and groups of figures in the round, as well as floral, vegetal and abstract elements, including fragments of statues.

2. Vessels and Containers—In marble, steatite, rock crystal, and other stone. Types include conventional shapes, such as bowls, cups, jars, jugs, and lamps, or may be in the shape of a human or animal, or part of a human or animal.

3. Furniture—In marble and other stone. Types include tables, thrones, beds, funerary furniture, and other burial elements.

4. Tools and Weapons—In flint, chert, obsidian, limestone, and other hard stone. Types include small tools, large and small blades, borers, scrapers, sickles, awls, harpoons, cores, loom weights, and arrow heads. Ground stone types include grinders (e.g., mortars, pestles, millstones, and/or whetstones), choppers, axes, hammers, molds, and mace heads.

5. Seals and Stamps—These are small devices with at least one side engraved with a design for stamping or sealing, often in marble, limestone, and various semiprecious stones, including rock crystal, amethyst, jasper, agate, steatite, and carnelian. Shapes can include cylinders, buttons, and prismatic.

6. Jewelry and Beads—Jewelry made of or decorated with colored and semi-precious stones, including beads, necklaces, pendants, cameos, crowns, earrings, finger rings, bracelets, anklets, belts, girdles, pins, hair ornaments, and arm bands. May be incised or cut as gems or cameos.

B. Metal

1. Sculpture

a. Statuary—Large and small statuary, primarily in bronze, including fragments of statues. Subject matter includes human and animal figures, masks, plaques, and groups of figures in the round.

b. Reliefs—In gold, bronze, or lead. Types include plaques, burial masks, leaves, and appliqués with images of gods, mythical creatures, or other figures.

c. Inscribed or Decorated Sheets—In bronze and lead. Engraved inscriptions, “military diplomas,” “curse tablets,” and thin metal sheets with engraved or impressed designs often used as attachments to furniture.

2. Vessels and Containers—In copper, bronze, gold, and silver. Bronze may be gilded or silver-plated. Types include conventional shapes, such as bowls, cups, jars, jugs, strainers, cauldrons, candelabras, and lamps, or may be in the shape of a human or animal or part of a human or animal.

3. Jewelry and Personal Adornment—In copper, bronze, silver, and gold. Types include earrings, ear caps, pendants, bracelets, necklaces, spiraliform tubes, brooches, torques, belts, belt buckles, belt ends/appliqués, fibulas with chain pendants, plates, spangles, diadems, pins, dress pins, finger rings, hair rings, chains, spirals, ornaments, beads, mirrors, wreaths, cuffs, and pectoral crosses.

4. Tools—In bronze, iron, lead, and copper. Types include socketed hammers, spearheads, lanceheads, daggers, knives, axes, double axes, hooks, weights, scrapers, trowels, keys, strigils, and other tools of physicians and artisans.

5. Weapons and Armor—In copper, bronze, lead and iron. This category includes common weapon types, such as daggers, arrows, swords, spears, javelins, axes, rapiers, and maces. Body armor is also included, such as helmets, cuirasses, shin guards, shields, horse armor, and chariot decoration. Some may have inscriptions or be otherwise decorated with engraved, embossed, or perforated designs.

6. Seals and Stamps—These are small devices with at least one side engraved with a design for sealing or stamping, often in bronze, copper, gold, silver, tin, or lead. Types include rings, amulets, stamps, and seals with shank.

7. Ship and Boat Material—Parts and fragments from shipwrecks in bronze, lead, and iron, including anchors.

8. Coins—This category includes coins of Illyrian, Greek, Macedonian, Roman provincial, Byzantine, Medieval, and Ottoman types that circulated primarily in Albania, ranging in date from approximately the 6th century B.C. to A.D. 1750. Coins were made in copper, bronze, silver, and gold. Examples are generally round, have writing, and show imagery of animals, buildings, symbols, or royal or imperial figures.

C. Ceramic, Clay, and Terracotta

1. Sculpture

a. Architectural Elements—Baked clay (terracotta) elements used to decorate buildings. Elements include tiles, acroteria, antefixes, painted and relief plaques, metopes, cornices, roof tiles, pipes, and revetments, as well as wall and floor decorations in plaster. May be painted as icons.

b. Statuary—Large and small statuary. Subject matter includes human and animal figures and groups of figures in the round, human body parts, shrines, houses, ovens, rhyta, strainers, and chariots. This includes figurines which may be anthropomorphic, zoomorphic, vegetal, furniture-like, schematic, or flat.

2. Vessels—Ceramic types, forms, and decoration vary among archaeological styles over time. Forms may be handmade or produced with ceramic wheels, plain or decorated, and may be glazed, unglazed, slipped, painted, burnished, engraved, and/or incised. They may be produced in Albania or imported at or near the time of production. Some of the most well-known types are highlighted below:

a. Neolithic Pottery—Early Neolithic types include thick-walled, coarse, fine, fine with sand inclusion, red, brown, and black pottery. Decorations, applications, and paint include sandy slip, barbotine, red monochrome, or dark brown paint on red barbotine ware. Middle Neolithic types include gray or black, lustrous, incised, and beaded pottery. Decorations include incised bands filled with dots or lines, incised spiral motifs, or white paint. Late Neolithic types include light yellow ocherous fabric, red ocherous fabric with painted decoration, black ware with incisions and appliqués, brown on light painted, clay mixed with sand, brown with broad lines and triangles, unpolished, net patterns, zig-zag lines, fine, polished, painted, multi-colored, linear-geometric, and spiral pottery. Shapes include globular, spherical, hemispherical, and biconical vessels.

b. Chalcolithic Pottery—This category includes similar types and decorations as described above for earlier periods, with the addition of thick-walled, thin-walled mixed with sand, gray surface, brown surface, black surface, fine, and gray-black pottery. They may be painted, incised, encrusted, recessed, or in relief, sometimes representing combined techniques. Prominently black monochrome with fluted decoration. Shapes include squat biconical bodies with cylindrical necks and bowls with incurving rims.

c. Bronze Age Pottery—Types include thick-walled and thin-walled vessels, which are black, gray, gray-black, red, light beige, or ocherous yellow, handmade and wheel-made, as well as Mycenaean (Late Helladic) imported wares. Decorations include bands, punctuated plastic bands, incised linear or curvilinear motifs, geometric motifs, horizontal bands with or without holes, finger impressed bands, matte-painted with geometric patterns, applied plastic decoration, monochrome painted motifs, and/or piercing at juncture of rim and handle. Shapes include pots with handles rising above the rim, vessels with wide necks and exaggerated vertical handles, vessels with bulbous bodies, wide necks, and thick lips, cups with handles, piriform cups with handles that rise above the rim, vessels with elbow or axeblade-shaped handles, vessels with wish bone handles, bowls, vessels with wide throats, vessels with horizontal handles, vessels with handle and spout, short open vessels with two handles, and double vessels.

d. Iron Age Pottery—Types include brown, gray, red, black, clean fabric mixed with sand, thin-walled, and smooth surface pottery, both handmade and wheel-made. Decorations include brown matte-painted linear or curvilinear motifs, narrow ribbing, incised geometric patterns, including triangles and concentric bands, and red paint on black glaze. Shapes include vessels with globular bodies and cylindrical or conical necks with vertical handles, jars with globular necks, beaked jugs, spherical vessels, double vessels, vessels with narrow throats, vessels with handles rising above the rim, pots, beaked oinochoe, skyphoi, amphorae, conical bowls with upright or incurving rims, hemispherical bowls, cups with various profiles, chalices, biphora, and vessels with four handles.

e. Illyrian, Greek, and Hellenistic Pottery—Types include thin and thick-walled vessels; proto-Corinthian, Corinthian, Attic, Devollian, black-glazed, and other types. Decorations include thick black gloss, as well as Attic and other imported Black Figure and Red Figure vessels, including local imitations of these types. Shapes include lekythoi (small, thin-walled jars), large storage amphorae, oinochoe, pyxides, unguentaria, skyphoi, and others.

f. Roman Pottery—Types include fineware, coarseware, red gloss, red slip, black slip, lead glaze, and others. Shapes include cooking ware, jars, beakers, bowls, plates, vases, amphorae, and others.

g. Byzantine/Medieval Pottery—Types include thin and thick-walled vessels with fine to coarse fabrics, often deep red to purplish with lime inclusions and sandy texture, or dark orange with many lime inclusions and voids. Decorations include red slips, plain glazes, colored glazes, particularly green and silver, sgraffito incised naturalistic, geometric, and figural decoration, painted geometric motifs, including dots, ridge surface treatment, and proto-Maiolica ware. Shapes include amphorae, open and closed jugs, large storage vessels with small handles, and shallow plate-like vessels.

h. Ottoman Pottery—Types include thin and thick-walled vessels with fine to coarse fabrics, often deep red to purplish with lime inclusions and sandy texture. Decorations include plain glazes, colored glazes, particularly green and brown, painted glaze, sgraffito incised decoration, painted geometric motif, and Maiolica ware.

3. Objects of Daily Use—This type includes objects of daily use including tools, spindle whorls, weights, and lamps.

4. Inscriptions—These are typically unbaked and should be handled with extreme care, even when hard fired through accidental burning. They typically take the form of tablets, which may be shaped like leaves or may be rectangular or square. In various languages and scripts.

D. Bone, Ivory, Shell, Wood, and Other Organics

1. Small Statuary and Figurines—This category includes human and animal figures and groups of figures in the round.

2. Personal Ornaments and Objects of Daily Use—In bone, ivory, shell, amber, and other organics. Types include tools, ornaments, beads, amulets, combs, pins, spoons, small containers, bracelets, and buckles.

3. Seals and Stamps—These are small objects with at least one side engraved with a design for stamping or sealing. They may be discoid, cuboid, conoid, or in the shape of animals or mythological creatures.

4. Tools and Weapons—Bone, ivory, and horn were used to produce and decorate weapons and tools. Types include needles, awls, chisels, hoes, picks, knives, spearheads, harpoons, and blades.

5. Human and Animal Remains—Skeletal remains from human and animal bodies, found in burials or preserved in other contexts.

6. Musical Instruments—In bone, ivory, and tortoise shell. Types include pipes and flutes.

7. Inscriptions and Writing—On wood, particularly wooden sticks, ivory, and others. In various languages and scripts.

8. Ship and Boat Material—This includes whole or pieces that compose a ship or boat, including logs, planks, and other fittings.

E. Glass, Faience, and Semi-Precious Stone

1. Architectural Elements—This includes glass inlay and tesserae pieces from floor and wall mosaics, mirrors, and windows.

2. Vessels—Types include small jars, bowls, animal shaped containers, goblets, spherical containers, candle holders, and perfume jars (unguentaria).

3. Beads and Jewelry—Jewelry such as bracelets and rings, pendants, and beads in various shapes (e.g., circular or globular), may be decorated with symbolic and/or floral reliefs.

F. Textiles

This category includes clothing or clothing fragments, carpets, flags or banners, flag bags, wall hangings, blankets, and textiles used during religious practice, and includes objects made from linen, wool, cotton, and silk.

G. Leather, Papyrus, and Parchment

1. Leather—This category includes bags, furniture parts, masks, shields, cases and containers for a variety of uses, sandals, clothing, and manuscript covers. There are examples of religious and/or rare books that were written on leather pages.

2. Papyrus—Documents made from papyrus and written upon. These are often rolled and/or fragmentary.

3. Parchment—Writing material made of animal skin and used to produce manuscripts, including religious, liturgical, and scientific works. These may be single leaves or bound as books or scrolls. These may also have illustrations or illuminated paintings with gold and other colors.

H. Rock Art, Paintings, and Drawing

1. Rock Art—Types include human-made markings on stone, cave walls, or rocks in open air, and may be carved or painted. The earliest known examples date from approximately 10,000 B.C.

2. Wall Paintings—This category includes paintings from buildings and tombs. Several methods were used, such as wet-fresco and dry-fresco, and the paintings may be applied to plaster, wood, or stone. Types include simple applied color, bands and borders, landscapes, scenes of people and/or animals in natural or built settings, and religious themes. Tomb paintings may depict gods, goddesses, or funerary scenes, and date primarily from the first millennium BC through the 6th century A.D.

3. Panel Painting (Icons)—An icon is a work of art for religious devotion, normally depicting saints, angels, or other religious figures. These are painted on a wooden panel, often for inclusion in a wooden screen (iconostasis), or else painted onto ceramic panels. May be partially covered with gold or silver, sometimes encrusted with precious or semi-precious stone.

I. Mosaics

Mosaics are a combination of small three-dimensional pieces of colored stone or glass (tesserae) to create motifs, such as geometric shapes, mythological scenes, floral or animal designs, natural motifs, such as landscapes, and depictions of daily chores. These were generally applied to walls, ceilings, or floors.

II. Ethnological Material

Ethnological material covered by the Agreement includes, but is not limited to, architectural elements from historic or religious structures, funerary objects, ritual and ceremonial objects, paintings, written records, textiles, and weapons and armor; all of which contribute to the knowledge of the origins, development, and history of the Albanian people. This includes objects from approximately A.D. 400, starting in the Byzantine period, through the Medieval and Ottoman periods, ending in A.D. 1913, with Albania's independence.

A. Architectural Elements

This category includes architectural elements and decoration from religious and historic buildings in all materials. These buildings have distinctive characteristics described below. Examples of architectural elements covered by the Agreement include, but are not limited to, the following objects:

1. Structural and Decorative Architectural Elements—This category includes material from religious or public buildings in stone, ceramic, plaster, wood, and other organic elements, which includes blocks; columns, capitals, bases, lintels, jambs, friezes, and pilasters; beams, panels, doors, door frames, and window fittings; altars and altar partitions, prayer niches (mihrab), circular marking slabs (omphalion), screens, iconostases, fountains, ceilings, and carved, molded, or painted brick and tile. Metal elements are primarily in copper, brass, lead, and alloys, and may include doors, door fixtures, lathes, finials, chandeliers, screens, and sheets to protect domes. Glass may be incorporated into either structural or decorative elements. This category also includes relief and inlay sculpture, including appliqués and plaques that may have been part of a building. May be plain, molded, carved, or inscribed. Decorative motifs may be incised or in high relief, and may include religious, floral, human, animal, or other motifs.

2. Mosaics—Wall or floor mosaics generally portray religious images and scenes of biblical events. Surrounding panels may contain animal, floral, or geometric designs. They are made from stone and glass cut into small pieces (tesserae) and laid into a plaster matrix.

B. Funerary Objects

This category includes objects related to funerary rites and burials in all materials. Examples of funerary objects covered by the Agreement include, but are not limited to, the following objects:

1. Sepulchers—Sepulchers are repositories for human or animal remains, in stone (usually marble or limestone), metal, and wood. Types of burial containers include sarcophagi, caskets, coffins, and chest urns. These may also have associated sculpture in relief or in the round. May be plain or have figural, geometric, or floral motifs, either painted or carved in relief. May also contain human or animal remains.

2. Inscriptions, Memorial Stones, Epitaphs, and Tombstones—This category includes inscribed funerary objects, primarily slabs in marble and ceramic; most frequently engraved with Ottoman Turkish or Greek. These may also have associated sculpture in relief or in the round.

3. Funerary Offerings—This category includes objects in all materials; shrouds and body adornment, such as clothing, jewelry, and accessories; idols, figurines, vessels, beads, weapons, or other ritual or ceremonial offerings; and writing implements, books, and manuscripts.

C. Ritual and Ceremonial Objects

This category includes objects for use in religious services (Christian, Islamic, or other) or by the state (Byzantine Empire, Medieval period rulers, and Ottoman Empire). Examples of ritual and ceremonial objects covered by the Agreement include, but are not limited to, the following objects:

1. Religious Objects—This category includes objects in all materials, such as lamps, libation vessels, patens, pitchers, chalices, plates, censers, candelabra, crosses and cross pendants, pilgrim flasks, tabernacles, boxes and chests, carved diptychs, triptychs, plaques and appliqués, cast metal icons, liturgical spoons, ecclesiastic crowns, bells, ampoules, prayer beads, icons, amulets, Bektashi surrender stones, and Qu'ran study tablets. This type also includes reliquaries and reliquary containers, which may or may not include human remains. Objects are often engraved, inscribed, inlaid, or otherwise decorated with semi-precious or precious stones.

2. State Ceremonial Objects—This category includes objects in all materials. Examples include ceremonial garments, clothing emblematic of state or imperial position and accessories thereof (such as shoes, headdresses and hats, belts, and jewelry); objects of state office (such as scepters, staffs, insignia, relics, and monumental boxes, trays, and containers); flags, flagstaffs, and alem (finials); stamps, seals, and writing implements for official use by the state; tapestries, or other representations of the court; and musical instruments.

3. Furniture—This category includes objects primarily in stone or wood, including altars, tables, platforms, pulpits, fonts, screens, thrones, minbar, lecterns, desks, and other types of furniture used for religious or official state purpose.

4. Musical Instruments—This category includes instruments important for religious or state ceremonies, such as drums of various sizes in leather (e.g., bendir drums used in Sufi rituals, wedding processions, and Mal'uf performances), metal instruments, such as cymbals and trumpets, and wooden instruments.

D. Paintings

This category includes works of paint on plaster, wood, or ceramic, from religious or historic contexts. Paintings from these periods provide information on the social and religious history of the people of Albania that may be absent from written records. Examples of paintings include, but are not limited to:

1. Wall paintings—This category includes paintings on various types of plaster, which generally portray religious images and/or scenes of biblical events. Types may also include simple applied color, bands and borders, and animal, floral, and geometric motifs.

2. Panel Paintings (Icons)—An icon is a work of art for religious devotion, normally depicting saints, angels, or other religious figures. These are painted on a wooden panel, often for inclusion in a wooden screen (iconostasis), or else painted onto ceramic panels. May be partially covered with gold and/or silver, sometimes encrusted with precious or semi-precious stone.

3. Works on Leather and Paper—Paintings may be on leather, parchment, or paper. Images depicted may include, among other themes, courtly themes (e.g., rulers, musicians, or riders on horses) and city views.

E. Written Records

This category includes written records of religious, ritual, ceremonial, political, or scientific importance, including, but not limited to, works on papyrus, vellum or parchment, paper, or leather. Papyrus documents are often rolled and/or fragmentary. Parchment and paper documents may be single leaves or bound as scrolls or books. They may have illustrations or illuminated paintings with gold or other colors, or be otherwise embellished with colorful floral or geometric motifs. There are also examples of Korans (Qur'ans) and other religious and/or rare books written on leather pages. This category also includes boxes for books or scrolls made of wood or other organic materials and book or manuscript covers made of leather, textile, or metal.

F. Textiles

1. Traditional Clothing—Traditional Albanian folk clothing including headdresses (qeleshe, pils, Albanian hat, qylafë, kapica, langi, lëvere, kryqe), pants and upper body covers (fustanella, tirq, brekusha, xhubleta, mbështjellëse), vests (xhamadan), belts (brez), socks (çorape), and shoes (opinga).

2. Religious Vestments and Textiles—In linen, silk, and wool. This category includes religious textiles and fragments from mosques, churches, shrines, tombs, and monuments, including garments, hangings, prayer rugs, and shrine covers, as well as robes, vestments and altar clothes that are often embroidered in silver and gold. Embroidered designs include religious motifs and floral and geometric designs.

G. Weapons and Armor

This category includes weapons and armor in all materials. This includes daggers, swords, saifs, scimitars, other blades, with or without sheaths, as well as spears, firearms, and cannons. These may be inlaid with gemstones, embellished with silver or gold, or engraved with floral or geometric motifs and inscriptions. Grips or hilts may be made of metal, wood, and/or semi-precious stones, such as agate, and bound with leather. Armor consists of small metal scales, originally sewn to a backing of cloth or leather, and augmented by helmets, body armor, shields, and horse armor.

Inapplicability of Notice and Delayed Effective Date

This amendment involves a foreign affairs function of the United States and is, therefore, being made without notice or public procedure under 5 U.S.C. 553(a)(1). For the same reason, a delayed effective date is not required under 5 U.S.C. 553(d)(3).

Regulatory Flexibility Act

Because no notice of proposed rulemaking is required, the provisions of the Regulatory Flexibility Act (5 U.S.C. 601 et seq.) do not apply.

Executive Order 12866

CBP has determined that this document is not a regulation or rule subject to the provisions of Executive Order 12866 because it pertains to a foreign affairs function of the United States, as described above, and therefore is specifically exempted by section 3(d)(2) of Executive Order 12866.

Signing Authority

This regulation is being issued in accordance with 19 CFR 0.1(a)(1) pertaining to the Secretary of the Treasury's authority (or that of his/her delegate) to approve regulations related to customs revenue functions.

Chris Magnus, the Commissioner of CBP, having reviewed and approved this document, has delegated the authority to electronically sign this document to Robert F. Altneu, who is the Director of the Regulations and Disclosure Law Division for CBP, for purposes of publication in the Federal Register.

List of Subjects in 19 CFR Part 12

Cultural property, Customs duties and inspection, Imports, Prohibited merchandise, Reporting and recordkeeping requirements.

Amendment to CBP Regulations

For the reasons set forth above, part 12 of title 19 of the Code of Federal Regulations (19 CFR part 12), is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624.

* * * * *

Sections 12.104 through 12.104i also issued under 19 U.S.C. 2612;

* * * * *

2. In § 12.104g, the table in paragraph (a) is amended by adding Albania in alphabetical order to read as follows:

§ 12.104g Specific items or categories designated by agreements or emergency actions.

(a) * * *

State party | Cultural property | Decision No.
Albania | Archaeological material of Albania ranging in date from approximately 300,000 B.C. to A.D. 1750, and ethnological material of Albania ranging in date from approximately A.D. 400 to 1913 | CBP Dec. 22-06.
* * * * * * *

* * * * *

Robert F. Altneu,
Director, Regulations & Disclosure Law Division, Regulations & Rulings, Office of Trade, U.S. Customs and Border Protection.
Timothy E. Skud,
Deputy Assistant Secretary of the Treasury.

[FR Doc. 2022-05685 Filed 3-16-22; 8:45 am]

BILLING CODE 9111-14-P